DEPARTMENT OF HEALTH AND HUMAN SERVICES

National Institutes of Health

National Institute on Alcohol Abuse and Alcoholism; Amended Notice of Meeting

Notice is hereby given of a change in the meeting of the Biomedical Research Review Subcommittee, June 2, 2004, 8 a.m. to June 3, 2004, 4 p.m., Hyatt Regency Bethesda, One Bethesda Metro Center, 7400 Wisconsin Avenue, Bethesda, MD, 20814 which was published in the Federal Register on March 11, 2004, Vol. 69, 48, 11642.

The meeting will be held on June 3-4, 2004 instead of June 2-3, 2004. It will start at 8 a.m. at the Hyatt Regency Bethesda, One Metro Center, Bethesda, MD, at the Bethesda Red Line Metro Stop. Sathasiva Kandasamy, Ph.D., SRA. The meeting is closed to the public.

Dated: April 23, 2004.
LaVerne Y. Stringfield,
Director, Office of Federal Advisory Committee Policy.

[FR Doc. 04-9731 Filed 4-28-04; 8:45 am]

BILLING CODE 4140-01-M